DEPARTMENT OF TRANSPORTATION

National Highway Traffic Safety Administration

Reports, Forms, and Record Keeping Requirements Agency Information Collection Activity Under OMB Review

AGENCY: National Highway Traffic Safety Administration (NHTSA), U.S. Department of Transportation (DOT).

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on March 21, 2016 (Federal Register/Vol. 81, No. 54/pp.15147-15148).

DATES: Comments must be submitted on or before June 16, 2016.

ADDRESSES: Send comments, within 30 days, to the Office of Information and Regulatory Affairs, Office of Management and Budget, 725-17th Street NW., Washington, DC 20503, Attention NHTSA Desk Officer.

FOR FURTHER INFORMATION CONTACT: Dr. Kristie Johnson, 202-366-2755.

SUPPLEMENTARY INFORMATION:

Title: Countermeasures That Work (9th and 10th Editions) and Countermeasures At Work (1st and 2nd Editions)

Type of Request: New information collection requirement.

Abstract: The National Highway Traffic Safety Administration (NHTSA) proposes to collect user feedback on the Countermeasures That Work and Countermeasures At Work guides. These guides were developed for the State Highway Safety Offices (SHSOs) to assist them in developing programs for implementing safety countermeasures in nine program areas: Alcohol-impaired and drugged driving, seat belt use and child restraints, aggressive driving and speeding, distracted and drowsy driving, motorcycle safety, young drivers, older drivers, pedestrians, and bicyclists. The Countermeasures That Work guide covers each program area in a separate chapter that includes a short background section relaying current data trends, which is followed by a description of applicable countermeasures, and an explanation their effectiveness, use, costs, and time to implement. The new (to be developed) Countermeasures At Work guide will elaborate on some of the countermeasures contained in the Countermeasures That Work guide by providing real world examples and details on localities where specific countermeasures were implemented. The countermeasure descriptions may include details about locality size, implementation issues, cost, stakeholders to involve, challenges, evaluation, and outcomes. To collect this information for the new guide, NHTSA proposes to collect information from representatives from the SHSOs and/or local jurisdictions, in addition to representatives from the Governors Highway Safety Association (GHSA), State Coordinators, and other relevant stakeholders. The survey will ask the representatives the following information:

• Their background, including job roles and responsibilities, which provide context for document use,

• What are their key information needs for the Countermeasures At Work document, including obtaining details of specific use-case examples such as locality size, implementation issues, cost, stakeholders to involve, challenges, evaluation, and outcomes,

• Opinions on the documents' structure, format, and content, which includes using a consistent question format for different information items/sections in the document,

• Opinions about specific aspects and potential changes or improvements pertaining to examples of alternative presentation formats,

• Opinions about how the Countermeasures At Work guide would be used, what information should be included, and if stakeholders have information about good locality examples, and

• Opinions about features or topics that should be included both guides, such as the addition of figures and illustrations, and adjustments to the design of topic subsections.

Estimated Total Annual Burden: 375 hours (250 participants, averaging 90 minutes).

Comments are invited on the following:

(i) Whether the proposed collection of information is necessary for the proper performance of the functions of the agency, including whether the information will have practical utility;

(ii) the accuracy of the agency's estimate of the burden of the proposed information collection;

(iii) ways to enhance the quality, utility, and clarity of the information to be collected; and

(iv) ways to minimize the burden of the collection of information on respondents, including the use of automated collection techniques or other forms of information technology.

A comment to OMB is most effective if OMB receives it within 30 days of publication.

Authority: 44 U.S.C. 3506(c)(2)(A)

Issued on: May 12, 2016.
Jeff Michael,
Associate Administrator, Research and Program Development.

[FR Doc. 2016-11586 Filed 5-16-16; 8:45 am]

BILLING CODE 4910-59-P